DEPARTMENT OF THE INTERIOR

Bureau of Reclamation

Privacy Act of 1974, as Amended; System of Records

AGENCY: Bureau of Reclamation, Interior.

ACTION: Notice of major changes to a system of records.

SUMMARY: Pursuant to the provisions of the Privacy Act of 1974, as amended (5 U.S.C. 552a), notice is hereby given that the Department of the Interior proposes major changes to a notice describing a system of records managed by the Bureau of Reclamation. The system of records notice “Individual Records of Issue, BOR-11” is being revised and renamed “Identification/Security Cards, WBR-11.” The system description is published in its entirety below.

DATES: This action will be effective without further notice on March 10, 2000, unless comments are received that would result in a contrary determination.

ADDRESSES: Send comments to Bureau of Reclamation, Attn: Mr. Casey Snyder, D-7924, Privacy Act Officer, PO Box 25007, Denver, Colorado 80225-0007.

FOR FURTHER INFORMATION CONTACT: Ms. Rayleen Cruz, Manager, Property and Office Services at (303) 445-2023.

SUPPLEMENTARY INFORMATION: The original system of records notice “Individual Records of Issue, BOR-11,” was published in the Federal Register on February 22, 1985, (50 FR 7391). The original system of records notice also covered Government parking spaces and keys issued, which are now covered under “Employee Administrative Records, DOI-58.

Murlin Coffey,
Manager Property and Office Services.

INTERIOR/WBR-11

SYSTEM NAME:

Identification/Security Cards.

SYSTEM LOCATION:

All Bureau of Reclamation (Reclamation) offices or facilities which manage an identification (ID)/security system.

CATEGORIES OF INDIVIDUALS COVERED BY THE SYSTEM:

All individuals who have access to Reclamation's buildings and facilities. These include, but are not limited to, the following: Current and former agency employees and contractors, persons authorized to perform or to use services provided by Reclamation (e.g., credit unions, fitness centers, etc.), volunteers, and visitors.

CATEGORIES OF RECORDS IN THE SYSTEM:

Records maintained on current and former agency employees and contractors may include the following data fields: Name; Social Security Number (or other personal identifier); date of birth; signature; image (photograph); hair color; eye color; height; weight; organization/office of assignment; telephone number of emergency contact; date and time of entry; time of exit; security access category; number of ID/security cards issued; and ID/security card issue date, expiration date, and serial number.

Records maintained on all other individuals covered by the system may include any or all of the following data: Name; Social Security Number (or one of the following: driver's license number, “Green Card” number, Visa/Passport number, or other personal identifier); date and time of entry; time of exit; purpose for entry; agency point of contact; security access category; number of ID/security cards issued; and ID/security card issue date, expiration date, and serial number.

AUTHORITY FOR MAINTENANCE OF THE SYSTEM:

5 U.S.C. 301; 40 U.S.C. 486; 44 U.S.C. 3101; Presidential Memorandum on Upgrading Security at Federal Facilities, June 28, 1995.

PURPOSE(S):

(1) To ensure the safety and security of Reclamation's buildings, facilities, and occupants. (2) To verify that all persons entering the buildings are authorized to enter.

(3) To track and control ID/security cards issued to persons entering Reclamation buildings or facilities. Routine uses of records maintained in the system, including categories of users and the purposes of such uses:

Disclosures outside Reclamation may be made:

(1) To security service companies that provide monitoring and maintenance support for the system. (2) To the Federal Protective Service and appropriate Federal, State, and local law enforcement agencies to investigate emergency response situations or to investigate and prosecute the violation of law, statute, rule, regulation, order, or license. (3) Another Federal agency to enable that agency to respond to an inquiry by the individual to whom the record pertains. (4) The Department of Justice, or to a court, adjudicative or other administrative body, or to a party in litigation before a court or adjudicative or administrative body, when: (a) One of the following is a party to the proceeding or has an interest in the proceeding: (i) The Department or any component of the Department; (ii) Any Departmental employee acting in his or her official capacity; (iii) Any Departmental employee acting in his or her individual capacity where the Department or the Department of Justice has agreed to represent the employee; or (iv) The United States, when the Department determines that the Department is likely to be affected by the proceeding; and (b) The Department deems the disclosure to be: (i) Relevant and necessary to the proceedings; and (ii) Compatible with the purpose for which we compiled the information. (5) The appropriate Federal, State, tribal, local, or foreign governmental agency that is responsible for investigating, prosecuting, enforcing, or implementing a statute, rule, regulation, order, or license, when we become aware of an indication of a violation or potential violation of the statute, rule, regulation, order, or license. (6) A congressional office in response to an inquiry to that office by the individual to whom the records pertain.

POLICIES AND PRACTICES FOR STORING, RETRIEVING, ACCESSING, RETAINING, AND DISPOSING OF RECORDS IN THE SYSTEM:

STORAGE:

Maintained on paper, microfiche, or computer files.

Retrievability:

Records are retrievable by name; Social Security Number (or other personal identifier); image (photograph); organization/office of assignment; agency point of contact; security access; category; date and time of entry; time of exit; and ID/security card issue date, expiration date, and serial number.

Safeguards:

The records are maintained in accordance with 43 CFR 2.51.

Retention and Disposal:

Records relating to persons covered by the system are retained in accordance with General Records Schedule 18, Item No. 17. Unless retained for specific ongoing security investigations, records are disposed of in accordance with appropriate Reclamation, Departmental, and General Records Schedules.

System Manager and Address:

Manager, Property and Office Services (D-7900), Reclamation Service Center, PO Box 25007, Denver, Colorado 80225-0007.

Notification procedures:

Individuals requesting notification of the existence of records on themselves should address their request to the appropriate administrative office or facility of Reclamation in which the individual is (or was) employed, the office or facility maintaining the records, or the system manager listed above. The request must be in writing and signed by the requester (see 43 CFR 2.60).

Record access procedures:

Individuals requesting access to records maintained on themselves should address their request to the appropriate administrative office or facility of Reclamation in which the individual is (or was) employed, the office or facility maintaining the records, or the system manager listed above. The request must be in writing and signed by the requester (see 43 CFR 2.63).

Contesting records procedures:

A petition for amendment must be in writing and signed by the requester. It should be addressed to the System Manager and must meet the content requirements of 43 CFR 2.71.

Record source categories:

Individuals covered by the system, supervisors, and designated management officials.

[FR Doc. 00-2905 Filed 2-8-00; 8:45 am]

BILLING CODE 4310-94-P